DEPARTMENT OF STATE

[Public Notice 8658]

International Security Advisory Board (ISAB) Meeting Notice; Closed Meeting

In accordance with section 10(a)(2) of the Federal Advisory Committee Act, 5 U.S.C. App § 10(a)(2), the Department of State announces a meeting of the International Security Advisory Board (ISAB) to take place on April 2, 2014, at the Department of Defense, Pentagon, Washington DC 20001.

Pursuant to section 10(d) of the Federal Advisory Committee Act, 5 U.S.C. App § 10(d), and 5 U.S.C. 552b(c)(1), it has been determined that this meeting will be closed to the public because the ISAB will be reviewing and discussing matters properly classified in accordance with Executive Order 13526. The purpose of the ISAB is to provide the Department of State with a continuing source of independent advice on all aspects of arms control, disarmament, nonproliferation, political-military affairs, international security, and related aspects of public diplomacy.

The agenda for this meeting will include a classified discussion and information exchange related to the ISAB's studies on current U.S. policy and issues regarding arms control, international security, nuclear proliferation, cyber stability, energy security, and diplomacy, as well as the future of cooperative threat reduction, Weapons of Mass Destruction (WMD) elimination, and nuclear strategic stability. The meeting will be held in conjunction with a meeting of the Department of Defense Threat Reduction Advisory Committee.

For more information, contact Richard W. Hartman II, Executive Director of the International Security Advisory Board, U.S. Department of State, Washington, DC 20520, telephone: (202) 736-4290.

Dated: March 7, 2014.
Richard W. Hartman, II,
Executive Director, International Security Advisory Board, U.S. Department of State.

[FR Doc. 2014-05686 Filed 3-13-14; 8:45 am]

BILLING CODE 4710-35-P